DEPARTMENT OF DEFENSE

Office of the Secretary

Proposed Collection; Comment Request

AGENCY: Department of Defense, Office of the Under Secretary of Defense (Acquisition, Technology, and Logistics)/Defense Systems Management College.

ACTION: Notice.

In compliance of Section 3506(c)(2)(A) of the Paperwork Reduction Act of 1995, the Office of the Under Secretary of Defense (Acquisition, Technology, and Logistics)/Defense Systems Management College, announces the proposed public information collection and seeks public comment on the provisions thereof. Comments are invited on (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by September 18, 2000.

ADDRESSES: Written comments and recommendations on the proposed information collection should be sent to the Defense Systems Management College, Attention: Ms. Alberta Ladymon, Ft. Belvoir, VA 22060.

FOR FURTHER INFORMATION CONTACT: To request further information on this proposed information collection or to obtain a copy of the proposal and associated collection instruments, please write to the above address, or call Ms. Alberta Ladymon, Defense Systems Management College, (703) 805-5406.

Title, Associated Form, and OMB Number: Defense Systems Management College (DSMC) Information Technology Study, OMB Control Number 0704-XXXX.

Needs and Uses: The collection of information is needed to characterize the personality characteristics, behaviors, and workplace climate needs common among Information Technology specialists. The results from the analysis of these data will be used to determine the management practices most effective for working with these specialists and to develop management curricula based upon these findings.

Affected Public: Businesses or other for-profit; Small Businesses or organizations; Non-profit institutions.

Annual Burden Hours: 2,500 Hours.

Number of (Annual) Respondents: 1,000 (approximately 2,000 over two years).

Responses to Respondent: 1.

Average Burden Per Response: 2.5 Hours.

Frequency: One time only.

SUPPLEMENTARY INFORMATION:

Summary of Information Collection

Respondents are information technology professionals from approximately 300 companies within the U.S. The purpose of this study is to develop a quantitative and qualitative understanding of what successful IT teams “look like” in terms of personnel composition and structure, and to learn about how successful IT teams operate. The goal of this effort is to use this information to form a basis for new Software Best Management Practices, to be encapsulated into the DSMC curriculum, as well as that of the Defense University's Chief of Information Officers program and civilian programs. Teams will be selected using a variety of sources, including DSMC listings, organizational listings held by industry experts, and professional contacts within the industry. Participation by team members is fully voluntary; all participants will be asked to sign a Study Participation Agreement form, explaining that the study is fully voluntary and describing how the data will be used. Data will be collected by two methods: completion of self-report personality/behavioral instruments by the participants, and observations of team behavior during a workshop conducted by qualified researchers. Data generated for the study will be entered into a study database by the research team. Each individual and team will be assigned a participant and team code at the beginning of the effort. This code will be the primary identifier during data entry as well as analysis. Data that personally identify a participant may be stored in the master database for tracking purposes, but will not be reported or released without the specific consent of that individual. Aggregate data and resulting conclusions may be released in the form of summary reports, technical and academic papers, and formal briefings or presentations. The study team also plans to establish a public Internet site, where the IT Team members participating may go to learn about the study results and conclusions.

Dated: July 13, 2000.
Patricia L. Toppings,
Alternate OSD Federal Register Liaison Officer, Department of Defense.

[FR Doc. 00-18198 Filed 7-18-00; 8:45 am]

BILLING CODE 5001-10-M